DEPARTMENT OF HOMELAND SECURITY

Coast Guard

33 CFR Part 117

[Docket No. USCG-2018-0120]

Drawbridge Operation Regulation; Sloop Channel, Hempstead, New York

AGENCY: Coast Guard, DHS.

ACTION: Notice of deviation from drawbridge regulation.

SUMMARY: The Coast Guard has issued a temporary deviation from the operating schedule that governs the Meadowbrook State Parkway Bridge across the Sloop Channel, mile 12.8, at Hempstead, New York. This temporary deviation is necessary to allow the bridge to remain in the closed-to-navigation position to facilitate the machinery rehabilitation and spanlock replacement of the bridge. This deviation allows the bridge to remain in the closed position.

DATES: This deviation is effective from 7 a.m. on March 5, 2018 to 7 a.m. on May 9, 2018.

ADDRESSES: The docket for this deviation, USCG-2018-0120 is available at http://www.regulations.gov. Type the docket number in the “SEARCH” box and click “SEARCH”. Click on Open Docket Folder on the line associated with this deviation.

FOR FURTHER INFORMATION CONTACT: If you have questions on this temporary deviation, call or email Judy Leung-Yee, Project Officer, First Coast Guard District, telephone (212) 514-4330, email judy.k.leung-yee@uscg.mil.

SUPPLEMENTARY INFORMATION: The owner of the bridge, the New York State Department of Transportation, requested a temporary deviation to facilitate the machinery rehabilitation and spanlock replacement of the bridge. The Meadowbrook State Parkway Bridge across the Sloop Channel, mile 12.8, has a vertical clearance in the closed position of 22 feet at mean high water and 25 feet at mean low water. The existing bridge operating regulations are found at 33 CFR 117.799(h).

This temporary deviation allows the Meadowbrook State Parkway Bridge to remain in the closed position daily on Monday, Tuesday, and Wednesday between 7 a.m. and 7 p.m. as follows: March 5-7, 2018; and March 12-14, 2018. Additionally, the Meadowbrook State Parkway Bridge shall remain in the closed position between 7 a.m. Monday and 7 a.m. Wednesday as follows: April 30-May 2, 2018; and May 7-9, 2018. The majority of Meadowbrook State Parkway Bridge openings for the past three years between March and April occurred on Fridays, Saturdays and Sundays.

The waterway is transited by commercial and recreational traffic. The Coast Guard notified known waterway users and there were no objections to this temporary deviation. Vessels able to pass under the bridge in the closed position may do so at any time. The bridge will not be able to open for emergencies and there is no immediate alternate route for vessels to pass.

The Coast Guard will also inform waterway users of the closure through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: February 26, 2018.
Christopher J. Bisignano,
Supervisory Bridge Management Specialist, First Coast Guard District.

[FR Doc. 2018-04243 Filed 3-1-18; 8:45 am]

BILLING CODE 9110-04-P